DEPARTMENT OF HEALTH AND HUMAN SERVICES

Centers for Disease Control and Prevention

[60Day-17-0765; Docket No. CDC-2017-0062]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to comment on proposed and/or continuing information collections, as required by the Paperwork Reduction Act of 1995. This notice invites comments on a request for an extension of an approved information collection entitled, CDC's Fellowship Management System. CDC uses the information collected for processes that aid and enhance the selection of fellowship participants and host sites and to track participant information that helps strengthen the current, emerging, and ever-changing public health workforce.

DATES: Written comments must be received on or before November 6, 2017.

ADDRESSES: You may submit comments, identified by Docket No. CDC-2017-0062 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Fellowship Management System (OMB No. 0920-0765, expires 04/30/2018)— Extension—Division of Scientific Education and Professional Development (DSEPD), Center for Surveillance, Education, and Laboratory Services (CSELS), Centers for Disease Control and Prevention (CDC).

Background and Brief Description

DSEPD requests a three-year extension to continue use of the CDC Fellowship Management System (FMS) for its electronic applications, host sites, and directory processes that allow individuals to apply to fellowships online, allow public health agencies to submit fellowship assignment proposals online, and track applicant and alumni information. CDC uses the FMS application module to collect, process, and manage data from nonfederal applicants seeking training or public health support services through CDC fellowships, under the Office of Management and Budget (OMB) control number 0920-0765. FMS is key to CDC's ability to protect the public's health by supporting training opportunities that strengthen the public health workforce. In 2015, OMB approval for revision was granted for FMS for a 3-year period. Since 2015, OMB has approved nonsubstantive changes to FMS information collection requests under the same OMB control number, 0920-0765. These changes were made to accurately reflect evolving fellowship eligibility requirements, provide clarification of existing questions, efficiently and effectively accommodate changing needs of host organizations, and to account for the addition of 150 new applicants to the Science Ambassadors Fellowship. A 3-year extension will allow all fellowship applicants, public health agencies that host fellowship participants, and fellowship alumni the continued use of FMS for submission of electronic data.

The mission of DSEPD is to improve health outcomes through a competent, sustainable, and empowered public health workforce. Professionals in public health, epidemiology, medicine, economics, information science, veterinary medicine, nursing, public policy, and other related professionals seek opportunities, through CDC fellowships, to broaden their knowledge, and skills to improve the science and practice of public health. CDC fellows are assigned to state, tribal, local, and territorial public health agencies; federal government agencies, including CDC and Department of Health and Human Services' (HHS) operational divisions, such as Centers for Medicare & Medicaid Services; and to nongovernmental organizations, including academic institutions, tribal organizations, and private public health organizations.

FMS allows CDC to electronically collect and process fellowship applications, fellowship assignment proposals, and fellowship alumni information from nonfederal persons. FMS is a flexible and robust data management system that is standardized and tailored for each CDC fellowship, collecting only the minimum amount of information required, thereby streamlining decision processes for CDC and reducing burden for respondents. Respondent types vary depending on fellowship eligibility requirements, and responses to FMS questions are voluntary. CDC uses the information FMS gathers to identify participants for its fellowship programs and effectively address each program's needs and the needs of the public. By allowing online submissions of applications to fellowships and proposals for fellowship assignments, FMS can track fellowship applicants, alumni, and public health service agency employees seeking to host and work with fellows, all in one integrated database.

The annual burden table reflects OMB-approved changes since 2015, including the 150 new respondents applying to Science Ambassadors and changes for public health agency representatives. No changes were made relative to the FMS Alumni Directory or the FMS Host Site Module. There is no cost to respondents other than their time.

Estimated Annualized Burden Hours
Type of respondent | Form name | Number of respondents | Frequency of response | Average burden time per response (in hours) | Average total response burden (in hours)
Fellowship Applicants | FMS Application | 1,991 | 1 | 1.75 | 3,485
| Science Ambassadors | 150 | 1 | 45/60 | 113
Fellowship Alumni | FMS Alumni Directory | 1,382 | 1 | 15/60 | 346
Public Health Agency or Organization Staff | FMS Host Site Module | 408 | 1 | 1.5 | 612
Total |  | 3,931 |  |  | 4,556

Leroy A. Richardson,
Chief, Information Collection Review Office, Office of Scientific Integrity, Office of the Associate Director for Science, Office of the Director, Centers for Disease Control and Prevention.

[FR Doc. 2017-18697 Filed 9-1-17; 8:45 am]

BILLING CODE 4163-18-P